DEPARTMENT OF ENERGY

Federal Energy Regulatory Commission

[Docket No. PF08-13-000; Docket No. PF08-16-000]

Southern Natural Gas Company; Southeast Supply Header, LLC; Notice of Intent To Prepare an Environmental Assessment for the Proposed South System Expansion III Project and Joint Pipeline Expansion Phase II Project and Request for Comments on Environmental Issues

May 16, 2008.

The staff of the Federal Energy Regulatory Commission (FERC or Commission) will prepare an environmental assessment (EA) that will address the environmental impacts of the South System Expansion III Project (SSEIII Project) proposed by Southern Natural Gas Company (SNG) and the Joint Pipeline Expansion Phase II Project (JPE Phase II Project) proposed by Southeast Supply Header, LLC (SESH); together they are referred to as “the projects”. The Commission will use the EA in its decision-making process to determine whether or not to authorize the project. This notice explains the scoping process we ¹ will use to gather environmental input from the public and interested agencies on the projects. Your input will help the Commission determine the issues that need to be evaluated in the EA. Please note that the scoping period will close on June 16, 2008.

¹ “We,” “us,” and “our” refer to the environmental staff of the FERC's Office of Energy Projects.

Details on how to submit written comments are provided in the Public Participation section of this notice.

If you are a landowner receiving this notice, you may be contacted by a pipeline company representative about the acquisition of an easement to construct, operate, and maintain the proposed project facilities. Each pipeline company would seek to negotiate a mutually acceptable agreement for its project. However, if the projects are approved by the Commission, that approval conveys with it the right of eminent domain. Therefore, if easement negotiations fail to produce an agreement, the pipeline company could initiate condemnation proceedings in accordance with state law.

This notice is being sent to affected landowners; federal, state, and local government agencies; elected officials; environmental and public interest groups; Native American tribes; other interested parties; and local libraries and newspapers. We encourage government representatives to notify their constituents of this planned project and encourage them to comment on their areas of concern.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Projects

SNG and SESH propose to construct, own, operate, and maintain certain natural gas transportation facilities within the states of Georgia, Alabama, Mississippi, and Louisiana. The general locations of the proposed pipeline and compression facilities are shown in the figures included as Appendix 1.² The purpose of the projects is to provide natural gas transportation service to Georgia Power Company's (Georgia Power) existing Plant McDonough. Georgia Power is converting the Plant McDonough electric generation from coal-fueled to natural gas-fueled. The SSEIII Project would increase pipeline capacity on SNG's existing system to serve Georgia Power, and SESH's proposed JPE Phase II Project would provide the required additional upstream transportation capacity.

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to SNG or SESH.

SSEIII Project

SNG proposes to construct the SSEIII Project in three phases. In addition to the listed facilities, SNG would install a cathodic protection system to mitigate pipeline corrosion, an AC mitigation system where the pipeline would be near high voltage power lines, ten pig launchers or receivers, and four mainline valves.

Phase I would be constructed entirely within the state of Georgia. The construction of the meter station would begin during the first quarter of 2010 and would have an in-service date in the second quarter of 2010. SNG proposes beginning construction of the Phase I pipeline facilities in the second quarter of 2010 and having an in-service date during the fourth quarter of 2010. The proposed facilities are listed below.

• The Plant McDonough Meter Station would be constructed at milepost (MP) 1.09 on SNG's South Atlanta-Austell Line in Fulton County, Georgia.

• The Thomaston-Griffin Branch Third Loop (Thomaston-Griffin Loop) would consist of about 31.2 miles of 30-inch-diameter pipeline loop parallel to SNG's existing 20-inch-diameter Thomaston-Griffin Branch Second Loop and two pipelines owned and operated by Atlanta Gas Light Company between Thomaston and Griffin, Georgia in Upson, Lamar, and Spalding Counties. The Thomaston-Griffin Loop would extend from SNG's existing Thomaston Compressor Station (MP 0.0) in Upson County to the interconnection with SNG's existing Riverdale pipeline in Spalding County (MPs 0.0 to 31.2).

• The South Atlanta-Austell Replacement would consist of replacement of about 10.9 miles of the existing 18-inch-diameter South Atlanta-Austell pipeline with a 30-inch-diameter pipeline between Riverdale and Union City in Fulton and Clayton Counties, Georgia (MPs 0.0 to 10.9).

Phase II facilities would be constructed within the state of Mississippi. SNG proposes to begin their construction during the fourth quarter of 2010 and to have an in-service date during the second quarter of 2011. The proposed Phase II facilities are listed below.

• The South Main Third Loop Line (Gwinville Loop) would consist of about 9.5 miles of 36-inch-diameter pipeline loop constructed adjacent to SNG's existing South Main System in Jefferson Davis and Simpson Counties, Mississippi. The Gwinville Loop would extend from SNG's existing Gwinville Compressor Station near Gwinville, Jefferson Davis County to a point near Magee, Simpson County, Mississippi (MPs 0.0 to 9.5).

• An additional 10,310 horsepower (hp) of compression and associated ancillary facilities would be installed at SNG's existing Bay Springs Compressor Station in Jasper County, Mississippi.

Phase III facilities would be constructed in the states of Mississippi, Alabama, and Georgia. SNG proposes to begin construction of these facilities during the third quarter of 2011 and to have an in-service date during the second quarter of 2012. The proposed Phase II facilities are listed below.

• The South Main Third Loop Line (Enterprise Loop) would consist of about 2.8 miles of 36-inch-diameter pipeline loop constructed adjacent to SNG's existing 30-, 24-, and 18-inch-diameter pipelines in Lauderdale County, Mississippi. The Enterprise Loop would extend between SNG's existing Enterprise and Bay Springs Compressor Stations (MPs 89.6 to 92.6).

• The South Main Fourth Loop Line (Gallion Loop) would consist of about 6.5 miles of 36-inch-diameter pipeline loop constructed adjacent to SNG's existing 30-, 24-, and dual 18-inch-diameter pipelines in Hale and Perry Counties, Alabama. The Gallion Loop would extend between SNG's existing Gallion and Selma Compressor Stations (MPs 149.9 to 156.4).

• The South Main Fourth Loop Line (Elmore Loop) would consist of about 11.7 miles of 36-inch-diameter pipeline loop constructed adjacent to SNG's existing 30-, 24-, 18-, and 16-inch-diameter pipelines in Elmore County, Alabama. The Elmore Loop would extend between SNG's existing Elmore and Auburn Compressor Stations (MPs 221.6 to 233.3).

• An additional 7,000 hp of compression and associated ancillary facilities would be installed at the existing Ellerslie Compressor Station in Harris County, Georgia.

JPE Phase II Project

SESH proposes the installation of additional compression at two of its existing compressor stations as described below. SESH proposes beginning construction of its facilities in October 2009 and having an in-service date in July 2010.

• An additional 13,000 hp of compression and associated ancillary facilities would be installed at its Delhi Compressor Station in Richland Parish, Louisiana.

• An additional 13,000 hp of compression and associated ancillary facilities would be installed at its Gwinville Compressor Station in Jefferson Davis County, Mississippi.

Land Requirements for Construction

SSEIII Project

The typical construction right-of-way width for the SSEIII Project loop pipelines would vary between 90 and 100 feet. The majority of this construction right-of-way, however, would overlap the existing permanent rights-of-way of the adjacent pipelines. Therefore, between zero and 30 feet of additional temporary right-of-way would be required for construction. Construction of the South Atlanta-Austell Replacement would be accomplished within a 65- to 80-foot-wide construction right-of-way and would require up to 5 feet of additional temporary right-of-way. The typical construction right-of-way width through wetlands would be reduced to 75 feet. Following construction, SNG would retain between zero and 20 feet of additional permanent right-of-way for operation.

Additional temporary extra workspaces beyond the typical construction right-of-way limits would be required at certain feature crossings (e.g., roads, railroads, wetlands, or waterbodies, utilities), in areas with steep side slopes, in association with special construction techniques, for topsoil segregation, and for pipe, equipment, and contractor yards. SNG would access its project construction areas primarily along the existing pipeline right-of-way and existing roads; however, other access roads may be required during construction.

Construction of most of SNG's proposed aboveground facilities would be completed within the construction workspaces associated with pipeline construction or within or adjacent to its existing compressor station yards. Operation of the proposed additional compressor facilities would be within the existing compressor station sites. The proposed Plant McDonough Meter Station would require about 1.0 acre for construction and operation.

Based on preliminary information, construction of SNG's proposed project facilities would affect about 867.5 acres including the proposed meter station. Operation of the SSEIII Project would require about 45.4 acres as permanent right-of-way that would be restored as open land or as industrial where aboveground facilities would be operated. The remaining 822.1 acres of temporary workspaces would be restored and would return to previous land use. These totals do not include the temporary land requirements for access roads or contractor, pipe, or equipment yards.

JPE Phase II Project

SESH would require about 56.0 acres for construction of the compressor additions at both project locations of which about 44.0 acres would be required at the Delhi Compressor Station and about 12.0 acres would be required at the Gwinville Compressor Station. Operation of the proposed facilities would not require any additional land outside the existing compressor station sites. Access to both construction areas would be along the permanent compressor station access roads. No new temporary or permanent roads would be required.

Total Land Requirements

The total land requirements for the projects would be 923.5 acres for construction and about 45.4 acres for operation. The remaining 878.1 acres of temporary workspace (including all temporary construction rights-of-way, extra workspaces, and pipe and contractor yards) would be restored and allowed to revert to its former use.

The EA Process

The National Environmental Policy Act (NEPA) requires the Commission to take into account the environmental impacts that could result from an action when it considers whether or not an interstate natural gas pipeline should be approved. The FERC will use the EA to consider the environmental impact that could result if the Projects are authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

In the EA we will discuss impacts that could occur as a result of the construction and operation of the proposed project under these general headings:

• Geology and soils;

• Land use;

• Water resources, fisheries, and wetlands;

• Cultural resources;

• Vegetation and wildlife;

• Threatened and endangered species;

• Air quality and noise;

• Hazardous waste; and

• Public safety.

In the EA, we will also evaluate possible alternatives to the proposed projects or portions of the projects, and make recommendations on how to lessen or avoid impacts on affected resources.

Although no formal application has been filed, the FERC staff has already initiated its NEPA review under its NEPA Pre-filing Process. The purpose of the Pre-filing Process is to encourage the early involvement of interested stakeholders and to identify and resolve issues before an application is filed with the FERC.

Public Participation

You can make a difference by providing us with your specific comments or concerns about the proposed project. By becoming a commentor, your concerns will be addressed in the EA and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 2.

• Reference Docket No. PF08-13-000 for SNG's proposed SSEIII Project and PF08-16-000 for SESH's proposed JPE Phase II Project on the original and both copies.

• Mail your comments so that they will be received in Washington, DC on or before June 16, 2008.

Please note that the Commission strongly encourages electronic filing of any comments or interventions or protests to this proceeding. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

We might mail the EA for comment. If you are interested in receiving it, please return the Information Request (Appendix 3). If you do not return the Information Request, you will be taken off the mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-1) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

SNG has established an Internet Web site for the SSEIII Project at http://www.elpaso.com/sse3/default.shtm. The Web site includes a description of the project, a map of the proposed pipeline route, and contact information. You may also use SNG's toll free telephone number, 1-800-622-4481 to ask questions about the SSEIII Project.

SESH has also established an Internet Web site for the JPE Phase II Project at http://www.spectraenergy.com/businesses/projects/sesh/. The SESH Web site includes contact information and information about its proposed project. You may also use SESH's toll free telephone number, 1-888-312-7374, to ask questions about the JPE Phase II Project.

Kimberly D. Bose,
Secretary.

[FR Doc. E8-11509 Filed 5-21-08; 8:45 am]

BILLING CODE 6717-01-P